DEPARTMENT OF JUSTICE

Notice of Lodging of Amendment to Consent Decrees Under the Clean Water Act

Under 28 CFR 50.7, notice is hereby given that on July 28, 2009, the Department of Justice lodged with the United States District Court for the Southern District of Ohio a proposed First Amendment to the Interim Partial Consent Decree on Sanitary Sewer Overflows and Consent Decree on Combined Sewer Overflows, Wastewater Treatment Plants and Implementation of Capacity Assurance Program Plan (“Global Decree”), which were entered by the Court on June 9, 2009 in United States and State of Ohio v. Board of County Commissioners of Hamilton County and the City of Cincinnati, Civil Action Nos. C-1-02-107 and C-1-02-108. The proposed First Amendment to the Consent Decrees conforms certain paragraphs of the Consent Decrees to the scheduling approach and certain other requirements set forth in the defendants' Wet Weather Improvement Program (WWIP), which was developed pursuant to the Consent Decrees and conditionally approved by the United States, the State of Ohio, and the Ohio River Valley Water Sanitation Commission on June 5, 2009, subject to the Court's approval of the proposed modifications to the Consent Decrees.

The proposed First Amendment would change Paragraph IX.B of the Global Decree to allow a phased approach to the schedule for implementation of the program, instead of requiring a fixed end date for all projects specified in advance in the WWIP. The first phase of work is estimated to cost $1.145 billion (in 2006 dollars) and, under the proposed First Amendment, must be completed by December 31, 2018. The WWIP and the First Amendment set forth the projects that must be completed in one or more subsequent stages and the process for establishing the remainder of the schedule, which must be as expeditious as practicable. The proposed First Amendment would also make a few technical and schedule changes to specific capital improvement projects required by the Consent Decrees.

The Department of Justice will receive for a period of thirty (30) days from the date of this publication comments relating to the proposed First Amendment to the Consent Decrees. Comments should be addressed to the Assistant Attorney General, Environment and Natural Resources Division, P.O. Box 7611, U.S. Department of Justice, Washington, DC 20044-7611, and either e-mailed to pubcomment-ees.enrd@usdoj.gov or mailed to P.O. Box 7611, U.S. Department of Justice, Washington, DC 20044-7611. In either case, the comments should refer to United States et al. v. Board of County Commissioners of Hamilton County and the City of Cincinnati, D.J. Ref. 90-5-1-6-341A.

The First Amendment to the Consent Decrees may be examined at the Office of the United States Attorney for the Southern District of Ohio, 221 E. 4th Street, Atrium II, Suite 400, Cincinnati, Ohio 45202, and at U.S. EPA Region V, 77 West Jackson Blvd., Chicago, IL 60604-3590. A copy of the First Amendment to the Consent Decrees may also be obtained by mail from the Consent Decree Library, P.O. Box 7611, U.S. Department of Justice, Washington, DC 20044-7611. During the public comment period, the First Amendment to the Consent Decrees may also be examined on the following Department of Justice Web site: http://www.usdoj.gov/enrd/Consent_Decrees.html. A copy of the First Amendment to the Consent Decrees may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $4.75 (25 cents per page reproduction cost) payable to the United States Treasury or, if by e-mail or fax, forward a check in that amount to the Consent Decree Library at the stated address.

Maureen M. Katz,
Assistant Chief, Environmental Enforcement Section, Environment and Natural Resources Division.

[FR Doc. E9-18455 Filed 7-31-09; 8:45 am]

BILLING CODE 4410-15-P